DEPARTMENT OF JUSTICE

Notice of Lodging of Consent Decree Pursuant to the Clean Air Act

In accordance with 28 C.F.R. § 50.7, the Department of Justice gives notice that a proposed consent decree in United States v. Heinz Gros and Roy Gros (d/b/a H&R Plating, a/k/a Gateway Plating Co., No. 4:02CV00125CDP (E.D. Mo.), was lodged with the United States District Court for the Eastern District of Missouri on January 23, 2002, pertaining to the payment of a civil penalty and injunctive relief, in connection with the Defendants' violations of the Clean Air Act (CAA), 42 U.S.C. § 7412 et seq.

Under the proposed consent decree, Defendants will pay a civil penalty of $15,000 and will perform injunctive relief. The Consent Decree includes a release of claims alleged in the complaint.

The Department of Justice will receive, for a period of thirty (30) days from the date of this publication, comments relating to the proposed consent decree. Comments should be addressed to the Assistant Attorney General, Environment and Natural Resource Division, P.O. Box 7611, U.S. Department of Justice, Washington, DC 20044-7611, and should refer to United States v. Heinz Gros and Roy Gros, No. 4:02CV00125CDP (E.D. Mo.), and DOJ Reference No. 90-5-2-1-2203.

The proposed consent decree may be examined at: (1) the Office of the United States Attorney for the Eastern District of Missouri, 111 South 10th Street, St. Louis, MO 63102 (314) 539-2200; and (2) the United States Environmental Protection Agency (Region 7), 901 North Fifth Street, Kansas City, KS 66101 (contact Henry Rompage in the Office of Regional Counsel). A copy of the proposed consent decree may be obtained by mail from the Consent Decree Library, P.O. Box 7611, Washington, DC 20044 or by faxing a request to Tonia Fleetwood, fax no. (202) 514-0097 phone confirmation number (202) 514-1547. In requesting a copy, please refer to the referenced case and DOJ Reference Number and enclose a check in the amount of $4.25 for 17 pages (at 25 cents per page reproduction costs), made payable to the U.S. Treasury.

Robert E. Maher,
Assistant Section Chief, Environmental Enforcement Section, Environment and Natural Resources Division.

[FR Doc. 02-2852 Filed 2-5-02; 8:45 am]

BILLING CODE 4410-15-M